OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on March 1-2, 2005, at the Office of National Drug Control Policy in the 5th Floor Conference Room, 750 17th Street NW., Washington, DC. The meeting will commence at 12 noon on Tuesday, March 1, 2005 and adjourn for the evening at 5:15 p.m. The meeting will reconvene at 8:30 a.m. on Wednesday, March 2, 2005 and adjourn at 4 p.m. The agenda will include: remarks by ONDCP Director John P. Walters, results of recommendations from the last meeting of the Advisory Commission, and an update from the Acting Drug Free Communities Support Program Administrator. There will be an opportunity for public comment from 12:45-1:15 p.m. on Wednesday, March 2, 2005. Members of the public who wish to attend the meeting and/or make public comment should contact Carlos Dublin at (202) 395-6762 to arrange building access.

FOR FURTHER INFORMATION CONTACT: Kenneth Shapiro, Policy Analyst, (202) 395-4681.

Dated: January 4, 2005.
Linda V. Priebe,
Assistant General Counsel.

[FR Doc. 05-438 Filed 1-7-05; 8:45 am]

BILLING CODE 3180-02-P